DEPARTMENT OF COMMERCE

National Oceanic and Atmospheric Administration

[RTID 0648-XB159]

Endangered Species; File No. 25691

AGENCY: National Marine Fisheries Service (NMFS), National Oceanic and Atmospheric Administration (NOAA), Commerce.

ACTION: Notice; receipt of application.

SUMMARY: Notice is hereby given that Allen Foley, Ph.D., Florida Fish and Wildlife Conservation Commission, Fish and Wildlife Research Institute, 370 Zoo Parkway, Jacksonville, FL 32218, has applied in due form for a permit to take loggerhead sea turtles (Caretta caretta) for purposes of scientific research.

DATES: Written, telefaxed, or email comments must be received on or before July 14, 2021.

ADDRESSES: The application and related documents are available for review by selecting “Records Open for Public Comment” from the “Features” box on the Applications and Permits for Protected Species (APPS) home page, https://apps.nmfs.noaa.gov, and then selecting File No. 25691 from the list of available applications. These documents are also available upon written request via email to NMFS.Pr1Comments@noaa.gov.

Written comments on this application should be submitted via email to NMFS.Pr1Comments@noaa.gov. Please include File No. 25691 in the subject line of the email comment.

Those individuals requesting a public hearing should submit a written request via email to NMFS.Pr1Comments@noaa.gov. The request should set forth the specific reasons why a hearing on this application would be appropriate.

FOR FURTHER INFORMATION CONTACT: Amy Hapeman or Erin Markin, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to continue a long-term study of the trends in abundance and distribution of loggerhead sea turtles in southwestern Florida Bay. Researchers would also determine size, growth, sex, genetic identity, reproductive status, health, and movements of animals. Researchers would capture up to 125 sea turtles by hand for examination, measurements, photographs, weights, flipper and passive integrated transponder tagging, marking, and blood and tumor sampling. Up to 20 additional loggerheads may be pursued during unsuccessful capture attempts. The permit would be valid for 10 years.

Dated: June 8, 2021.
Julia Marie Harrison,
Chief, Permits and Conservation Division, Office of Protected Resources, National Marine Fisheries Service.

[FR Doc. 2021-12438 Filed 6-11-21; 8:45 am]

BILLING CODE P